DEPARTMENT OF ENERGY

Federal Energy Regulatory Commission

[Docket No. RP02-134-000]

Maritimes & Northeast Pipeline, L.L.C.; Notice of Compliance Filing

January 7, 2002.

Take notice that on December 27, 2001, Maritimes & Northeast Pipeline, L.L.C. (Maritimes) tendered for filing a cost and revenue study.

Maritimes states that the purpose of the filing is to comply with: (1) Ordering Paragraph (M) of the Federal Energy Regulatory Commission's (Commission) certificate order dated July 31, 1998 in Docket No. CP96-178, et al. and (2) Ordering Paragraph (H) of the Commission's certificate order dated July 13, 2001, in Docket No. CP01-154-000. Maritimes & Northeast Pipeline, L.L.C., 84 FERC ¶ 61,130 (1998), and Maritimes & Northeast Pipeline, L.L.C., 96 FERC ¶ 61,077 (2001).

Maritimes states that copies of its filing have been mailed to all customers.

Any person desiring to be heard or to protest said filing should file a motion to intervene or a protest with the Federal Energy Regulatory Commission, 888 First Street, NE, Washington, DC 20426, in accordance with Sections 385.214 or 385.211 of the Commission's Rules and Regulations. All such motions or protests must be filed on or before January 16, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-838 Filed 1-11-02; 8:45 am]

BILLING CODE 6717-01-P